DEPARTMENT OF HEALTH AND HUMAN SERVICES

Health Resources and Services Administration

[CFDA Number 93.224]

Amendment to a Notice of Availability of Funds for the Service Area Competition Funding for the Consolidated Health Center Program

AGENCY: Health Resources and Services Administration, HHS.

ACTION: Amendment to a notice of availability of funds.

SUMMARY: Funding opportunities for the Service Area Competition (SAC) funding for the Consolidated Health Center Program were published on grants.gov on August 10, 2006 (HRSA Announcement Numbers 07-008, 07-111, and 07-112). Appendix D of the SAC program guidance (HRSA-07-008) is amended to remove the opportunity in Pierre, South Dakota, with a project period end date of February 28, 2007. Prior to the end of the project period and subsequent projected competition for that service area, the grant was relinquished to another neighboring organization. This is now part of the service area for another grantee in Pierre, South Dakota. The competitive application for that opportunity will now be due December 15, 2006, under HRSA 07-112.

FOR FURTHER INFORMATION CONTACT: Judy Rodgers, Bureau of Primary Health Care, Health Resources and Services Administration; jrodgers@hrsa.gov.

SUPPLEMENTARY INFORMATION: The fiscal year 2007 application instructions and application guidance for Service Area Competition Funding for the Health Center Program is available on the HRSA Web site: http://www.bphc.hrsa.gov/pinspals/, http://www.hrsa.gov/grants or on Grants.gov.

Dated: October 15, 2006.
Elizabeth M. Duke,
Administrator.

[FR Doc. E6-17698 Filed 10-20-06; 8:45 am]

BILLING CODE 4165-15-P